DEPARTMENT OF COMMERCE

National Oceanic and Atmospheric Administration

[RTID 0648-XD452]

South Atlantic Fishery Management Council; Public Meeting

AGENCY: National Marine Fisheries Service (NMFS), National Oceanic and Atmospheric Administration (NOAA), Commerce.

ACTION: Notice of a public meeting.

SUMMARY: The South Atlantic Fishery Management Council (Council) Council will hold a meeting of its Habitat and Ecosystem Advisory Panel (Habitat AP) in Charleston, SC.

DATES: The Habitat AP will meet on Wednesday, November 1, 2023, from 1 p.m. until 4:30 p.m.; Thursday November 2, 2023, from 8:30 a.m. to 4:30 p.m.; and Friday November 3, 2023, from 8:30 a.m. to 1 p.m.

ADDRESSES:

Meeting address: The meeting will be held at the Marriott, 170 Lockwood Blvd., Charleston, SC 29403; phone: (843) 723-3000.

The meeting is open to the public and will also be available via webinar. Registration is required. Webinar registration, an online public comment form, and briefing book materials will be available two weeks prior to the meeting at: https://safmc.net/advisory-panel-meetings/.

Council address: South Atlantic Fishery Management Council, 4055 Faber Place Drive, Suite 201, N Charleston, SC 29405.

FOR FURTHER INFORMATION CONTACT: Kim Iverson, Public Information Officer, SAFMC; phone: (843) 571-4366 or toll free: (866) SAFMC-10; fax: (843) 769-4520; email: kim.iverson@safmc.net.

SUPPLEMENTARY INFORMATION: The Habitat AP will receive updates and discuss the following: NOAA Fisheries Habitat Conservation Division's Essential Fish Habitat (EFH) Consultation Annual Summary and EFH 5-Year Review; Southeast Conservation Adaptability Strategy (SECAS) and the Conservation Blueprint; Offshore Wind Activities in South Atlantic Region; EFH Policy Statement on Energy; U.S. Navy Atlantic Fleet Training and Testing Environmental Impact Statement; SAFMC Habitat Blueprint; South Atlantic Salt Marsh Initiative; and Space Operations off East Florida.

Special Accommodations

These meetings are physically accessible to people with disabilities. Requests for auxiliary aids should be directed to the Council office (see ADDRESSES) five (5) days prior to the meeting.

Note: The times and sequence specified in this agenda are subject to change.

Authority: 16 U.S.C. 1801 et seq.

Dated: October 6, 2023.
Rey Israel Marquez,
Acting Deputy Director, Office of Sustainable Fisheries, National Marine Fisheries Service.

[FR Doc. 2023-22661 Filed 10-12-23; 8:45 am]

BILLING CODE 3510-22-P